DEPARTMENT OF LABOR

Employment and Training Administration

[TA-W-65,523]

Federal Mogul Corporation, Blacksburg, VA; Notice of Termination of Investigation

Pursuant to Section 221 of the Trade Act of 1974, as amended, an investigation was initiated on March 9, 2009 in response to a petition filed by the International Association of Machinists and Aerospace Workers, Local 2533 on behalf of workers of Federal Mogul Corporation, Blacksburg, Virginia.

The petitioner has requested that the petition be withdrawn. Therefore, the investigation under this petition has been terminated.

Signed at Washington, DC, this 9th day of April 2009.
Linda G. Poole,
Certifying Officer, Division of Trade Adjustment Assistance.

[FR Doc. E9-10874 Filed 5-8-09; 8:45 am]

BILLING CODE 4510-FN-P